DEPARTMENT OF TRANSPORTATION

Maritime Administration

[Docket Number MARAD-2018-0088]

Final Policy: Centers of Excellence for Domestic Maritime Workforce Training and Education Designation Program Guidance; Information Collection Request for Comments

AGENCY: Maritime Administration, Department of Transportation.

ACTION: Final policy and information collection request for comments.

SUMMARY: This notice serves to inform interested parties and the public of the Maritime Administration's (MARAD) new program designating eligible and qualified training entities as Centers of Excellence for Domestic Maritime Workforce Training and Education (CoE). The National Defense Authorization Act of 2018 (the Act), provided the Secretary of Transportation with the discretionary authority to designate eligible and qualified entities as CoEs. CoE designations will serve to assist the maritime industry in obtaining and maintaining the highest quality workforce. On July 19, 2019, the agency published a notice in the Federal Register seeking public comments on a draft policy under which designations would be carried out. Below, MARAD provides its responses to all comments received. The agency is now announcing its voluntary program to identify and recommend qualified training providers for CoE designation.

DATES: This policy will become effective once the Office of Management and Budget (OMB) approves a current information collection control number. Comments regarding the information collection should be submitted following guidance in the ADDRESSES section immediately below on or before April 6, 2020. (See also Paperwork Reduction Act section.)

ADDRESSES: The complete file for this policy is available for inspection with the Docket Clerk, Docket Management Facility, U.S. Department of Transportation, 1200 New Jersey Avenue SE, West Building, Room W12-140, Washington, DC 20590, between 9 a.m. and 5 p.m., Monday through Friday, except on Federal holidays. You may also view the comments submitted to the docket via the Federal eRulemaking Portal at http://www.regulations.gov by following search instructions using DOT Docket Number MARAD-2018-0088.

Organizations and individuals desiring to submit comments on the collection of information requirements should direct them to the Office of Management and Budget, Office of Information and Regulatory Affairs, Washington DC 20503, Attention: MARAD Desk Officer. Comments may also be sent via email to the Office of Management and Budget at the following address: oira_submissions@omb.eop.gov.

FOR FURTHER INFORMATION CONTACT: You may contact Nuns Jain, Maritime Administration, at 757-322-5801 or by electronic mail at Nuns.Jain@dot.gov. You may send mail to Nuns Jain at Maritime Administration, Building 19, Suite 300, 7737 Hampton Boulevard, Norfolk, VA 23505. If you have questions on viewing the Docket, call Docket Operations, telephone: 202-366-9317 or 202-366-9826.

SUPPLEMENTARY INFORMATION: Following the enactment of the National Defense Authorization Act of 2018, Public Law 115-91 (the “Act”), codified at 46 U.S.C. 54102, MARAD developed a procedure to recommend to the Secretary the designation of eligible institutions as Centers of Excellence for Domestic Maritime Workforce Training and Education (CoE). Pursuant to the Act, the Secretary of Transportation may designate certain eligible and qualified training entities as CoEs and may subsequently execute Cooperative Agreements with CoE designees. Authority to administer the CoE program is delegated to MARAD in 49 CFR 1.93(a).

Qualified training entities seeking to be designated as a CoE need to apply to MARAD. MARAD has developed this policy to provide interested parties with comprehensive agency guidance on how to apply for CoE designation and how the CoE program will be administered. Applications should include information to demonstrate that the applicant institution meets certain eligibility requirements, selection criteria, and qualitative attributes consistent with Section 3507 of the Act.

The MARAD application procedure and program details will be available to the public on its website https://www.maritime.dot.gov/education/maritime-centers-excellence.

Prior Federal Action

As the first step in developing a CoE policy, MARAD issued a notice requesting comments on its proposed application process entitled Centers of Excellence for Domestic Maritime Workforce Training and Education, 83 FR 25109 (May 31, 2018). In response to the notice, we received 18 written comments. Then on July 19, 2019, MARAD published another notice in the Federal Register (84 FR 34994) in which we responded to comments received and sought new comments on the proposed policy to which five more comments were received. Responses to the five comments received from the July notice are summarized immediately below. All the unabridged comments are available for review electronically at www.regulations.gov by searching DOT Docket Id “MARAD-2018-0088” or by visiting the DOT Docket, Room PL-401, 1200 New Jersey Avenue SE, Washington, DC, between 9 a.m. and 5 p.m., Monday through Friday, except for Federal Holidays.

Response to Comments on the July 19, 2019 Notice

MARAD received comments from five different commenters.

The North Carolina Ferry Division recommended that MARAD include provisions to ensure geographic diversity, with a special focus on rural areas. We agree that geographical diversity including rural representation would be beneficial. However, this is dependent upon the receipt of acceptable applications from qualified entities in geographically diverse and rural areas. The statute does not establish any quotas and we intend to designate all qualified entities. The government's designation decision will be based upon our evaluation of the information submitted in each application to demonstrate compliance with the designation criteria.

The North Carolina Ferry Division suggested that another possible benefit for these CoE facilities could be support with curriculum development and growth. Certainly, knowledge sharing on industry trends, job needs, and career progression would benefit these centers. We agree.

The Community and Technical College Maritime Workforce Consortium (CTCMWC), submitted the following 12 comments on behalf of 18 community and technical colleges located in coastal areas, the Great Lakes, and inland waterways:

1. CTCMWC requested clarification of `voluntary' as used in this document. The draft Policy stated that participation is entirely voluntary. We have further clarified the Policy.

2. CTCMWC suggested that it is important to define `institution' and submitted a proposed definition. We do not agree because “institution” is a commonly used word with a commonly accepted meaning and the proposed definition would result in a set of circular definitions.

3. CTCMWC recommended adding the term “public” and language to reflect State operation or supervision to the definition of a community or technical college. We disagree because not all technical colleges are necessarily State institutions.

4. CTCMWC recommended adding the term “public” to the definition of a Maritime Training Center. We disagree because under the statute, Maritime Training Centers can be privately owned and operated. Including the word “public” would narrow the scope of the statute. Such narrowing would restrict Maritime Training Centers that otherwise would be eligible under the statute.

5. CTCMWC suggested that to be considered for designation, a program should demonstrate a period of sustained program performance, student retention, data generation, and rigor and relevance in meeting industry workforce needs. CTCMWC recommended that both community and technical colleges and maritime training centers be required to have a maritime or maritime-related program in place for a period of five years prior to applying for CoE designation. We disagree because including such requirement for a maritime or maritime-related program to be in place for a period of five years prior to applying for a CoE designation would narrow the scope of the statute. Such narrowing would restrict groups that otherwise would be eligible under the statute.

6. CTCMWC stated that a number of programs serve multiple industries (e.g., welding, HVAC, diesel, transportation and logistics, advanced manufacturing, and cyber security). Therefore, CTCMWC suggested that expanding the scope of the eligibility language to include maritime-related programming would be inclusive and appropriate to best serve the needs of the maritime workforce. CTCMWC proposed including “maritime-related industry training program in its curriculum” within the eligibility criteria at 1.b.1 for community and technical colleges. We disagree because programs that serve multiple industries are not prohibited under the eligibility criteria for a community or technical college at 1.b.1, if at least some of the training is for the domestic maritime workforce. We note, however, that the selection criteria at 2.I.a.2 includes programs offering Ashore Career preparation tracks in the United States Maritime Industry which has been defined quite broadly. Each institution's application may explain how their maritime related programs provide Ashore Career preparation tracks in the United States Maritime Industry.

7. CTCMWC suggested that MARAD recognize the alignment of some community and technical colleges and maritime centers structuring as consortia or alliances that will apply for designation in this form, with one entity within that consortium or alliance operating as the lead. CTCMWC recommended that the eligibility criteria be modified to include a consortium or alliance of public Community or Technical Colleges and/or Maritime Training Center(s). We agree and have clarified our policy regarding applications by a group of otherwise qualified entities and the expectations we have for such filings.

8. CTCMWC suggested expanding the scope of the language with regard to high school engagement to include high schools with maritime-related programming. According to this commenter, the expansion will support: Broader outreach, outreach to underserved and underrepresented communities, and support greater awareness of career pathways, educational and apprenticeship opportunities in the industry. CTCMWC recommended corresponding changes to the text at II.g. to reflect broader scope regarding high school engagement. We agree and have incorporated appropriate changes in the Policy.

9. CTCMWC suggested that Maritime academy engagement may not be a viable strategy for all Domestic Maritime Centers of Excellence. This may be due to geographic, industry, program and other factors. According to this commenter, changing the language to be more expansive, would be appropriate, and provide a more dynamic and flexible platform from which the designated Domestic Maritime Centers of Excellence can operate. CTCMWC recommended corresponding changes to the text at II.h. to reflect flexible engagement with maritime academies and broader engagement with applicable institutions for advanced proficiency and higher education. We agree and have incorporated appropriate changes in the Policy.

10. CTCMWC suggested that the policy require a mandatory written agreement between MARAD and all designated Domestic Maritime Centers of Excellence to address intent, scope of work, performance, compliance, fiduciary guidelines, if applicable, etc. CTCMWC recommended that “may” be replaced by “shall” in “After issuance of the designation, MARAD may enter into a cooperative agreement with the CoE.” We disagree because imposing mandatory requirements in this guidance document would be inconsistent with the Administrative Procedure Act and DOT processes. See 49 CFR 5.29(e).

11. CTCMWC submitted their consensus position that a one-year designation period is not feasible, and places an onerous burden not only on an institution, but MARAD as well. CTCMWC recommended that successful applicants receive a five-year designation and may reapply for designation at the end of the five-year period. We understand the concerns identified by CTCMWC and previously weighed the potential of a five-year designation period. However, we believe that the one-year period is workable and protects the accuracy and value of our designations. A five-year period would necessitate the development of a regulation and impose additional administrative burdens, i.e. oversight mechanisms, not necessary with a one-year CoE designation. In addition, we believe that this policy based program is the most responsive means to exercise our discretionary authority. Consistent with other MARAD programs, this new policy will allow experience to dictate whether and how a regulation may be developed to best administer the program in the future. For now, we believe this new policy, overall, is in the best interest of potential CoE designees.

12. CTCMWC proposed that item # 3.d, addressing non-profit certification, under `Information to include in your application' be deleted, as eligible applicants are from public community and technical colleges and maritime training centers operated under the supervision of a state. We do not agree because non-profit certification is required to be submitted only if applicable and a maritime training center could be a non-public entity.

The American Waterways Operators expressed support for the CoE program and encouraged MARAD to ensure that those community and technical colleges that receive the CoE designation are ready to assist the maritime industry in obtaining and maintaining the highest quality workforce. The CoE designation will provide further opportunities and avenues for these institutions to expand their reach, thus benefitting the entire maritime industry. We agree.

The University of Alaska (UA) supported the CTCMWC comments. In addition, UA noted that it has expanded its efforts to partner with the State of Alaska Department of Labor and Workforce Development Alaska Vocational Technical Center (AVTEC) to develop the Alaska Maritime Education Consortium (AMEC). Partnering as a single consortium will strengthen their abilities to meet the maritime workforce needs in Alaska. UA strongly recommended that MARAD allow a consortium of otherwise eligible community and technical colleges and maritime training centers, to be eligible to apply for the CoE designation within a State. Alaska's nearly 34,000 miles of coastline borders the Beaufort and Chukchi Seas to the North (both of which merge into the Arctic Ocean), the Bering Sea to the west, and the Gulf of Alaska and Pacific Ocean to the south. UA has coastal campuses in Ketchikan, Sitka, Juneau, Valdez, Homer, Kodiak, Soldotna, Dillingham, Bethel, Nome, and Kotzebue. AVTEC is located on the coast in Seward. It is neither practical nor prudent in a State like Alaska, to designate a single geographical location as a CoE. UA hopes to apply for the CoE designation as a single, integrated statewide consortium to leverage the location, programs, and expertise of UA and AVTEC, into one, robust, networked, center of excellence model. We agree and have clarified our policy regarding applications by a group of otherwise qualified entities and the expectations we have for such filings.

The Pacific Maritime Industries Education Alliance submitted comments which were identical to the comments submitted by CTCMWC.

MARAD Center of Excellence for Domestic Maritime Workforce Training and Education Designation Policy

This policy describes the process through which MARAD will exercise its discretionary authority to designate Centers of Excellence for Domestic Maritime Workforce Training and Education.

How To Be Designated a Center of Excellence for Domestic Maritime Workforce Training and Education

Introduction

The Secretary of Transportation, acting through the Maritime Administrator, may designate certain eligible and qualified training entities as Centers of Excellence for Domestic Maritime Workforce Training and Education (CoE) and may subsequently execute Cooperative Agreements with CoE designees. The Maritime Administration (MARAD) has developed the CoE Program to provide interested parties with comprehensive agency guidance on how best to apply for CoE designation. However, conformity with this CoE applicant guidance, except where explicit in the statute, is voluntary only. MARAD will review and consider all applications it receives and may contact applicants with questions to assist in reviewing their applications. The CoE Program is a voluntary program. Each eligible and qualified training entity is free to decide whether it wishes to participate in the program and apply for a CoE designation.

Eligible training entities seeking to be designated as a CoE are welcome to apply with MARAD. The application should include information to demonstrate that the applicant institution meets certain eligibility criteria, designation requirements, and attributes consistent with 46 U.S.C. 54102.

Key Terms

The following list of key terms are either directly taken from the statute or have been developed by MARAD or from comments received from the public during our earlier notice and comment period. The list is intended to assist applicants by providing context and insight into the approval process. If you believe that your institution qualifies for CoE designee status under an alternate interpretation or by qualifications not otherwise clearly articulated in the statute, please provide a cogent justification for any such alternative and it will be given due consideration during our review.

1. “Afloat Career” is a term developed by MARAD to mean a career as a merchant mariner compensated for service aboard a vessel in the U.S. Maritime Industry.

2. “Arctic” as explicitly stated in the statute means all United States and foreign territory north of the Arctic Circle and all United States territory north and west of the boundary formed by the Porcupine, Yukon, and Kuskokwim Rivers; all contiguous seas, including the Arctic Ocean and the Beaufort, Bering, and Chukchi Seas; and the Aleutian chain. [Section 112 of the Arctic Research and Policy Act of 1984, codified at 15 U.S.C. 4111];

3. “Ashore Career” is a term developed by MARAD to mean a shore-based compensated occupation in the United States Maritime Industry.

4. “Community or Technical College” is interpreted by MARAD to mean an institution of higher education that—

a. admits as regular students, persons who are beyond the age of compulsory school attendance, or are enrolled in a high school and concurrently are participating in a dual credit or similar program, in the State in which the institution is located or in an adjoining State or region; and

b. has primary focus on awarding Associate (or equivalent) degrees; and

5. provides an educational program that is acceptable for full credit toward a bachelor's or equivalent degree or that may culminate in a professional or technical certificate or credential, stackable certificates and credentials, and/or two-year degree; “Maritime Training Center” is interpreted by MARAD to mean a training institution that:

a. Does not grant baccalaureate or higher levels of academic degree;

b. is not a “Community or Technical College”; and

c. provides a structured program of training courses to prepare students and/or enhance their skills for Afloat Careers and/or Ashore Careers in the United States Maritime Industry.

6. “Mississippi River System” is interpreted by MARAD to mean the mostly riverine network of the United States which includes the Mississippi River, and all connecting waterways, natural tributaries and distributaries. The system includes the Arkansas, Illinois, Missouri, Ohio, Red, Allegheny, Tennessee, Wabash and Atchafalaya rivers. Important connecting waterways include the Illinois Waterway, the Tennessee-Tombigbee Waterway, and the Gulf Intracoastal Waterway.

7. “Operated by, or under the supervision of, a State” is interpreted by MARAD to mean operated by or under the supervision of a public entity of a State government or one of its subdivisions, as well as, county governments, and city or local governments;

a. “operated by” a State is interpreted by MARAD to mean that the State controls or provides direct oversight to the Maritime Training Center or the Community or Technical College through:

i. A State charter process, or other equivalent documents and system; and

ii. a State oversight body.

b. “under the supervision of a State” is interpreted by MARAD to mean that the State oversees in some manner the Maritime Training Center or the Community or Technical College through at least one of the following means:

i. Accreditation or similar review, validation, and approval by a public entity of the State government or one of its subdivisions as well as, county governments, and city or local governments;

ii. Registration approval by a State Apprenticeship Agency (SAA), in accordance with 29 CFR part 29, of an apprenticeship program offered by the Maritime Training Center to qualified students from the public; or

iii. Other means which demonstrate to MARAD that the State is supervising the educational process for which a CoE designation is sought.

c. “State” is interpreted by MARAD to mean a State of the United States, the District of Columbia, Guam, Puerto Rico, the Virgin Islands, American Samoa, the Northern Mariana Islands, and any other territory or possession of the United States.

d. “United States Maritime Industry” is a term developed by MARAD that includes all segments of the maritime-related transportation system of the United States, both in domestic and foreign trade, coastal and inland waters, as well as non-commercial maritime activities, such as pleasure boating, marine sciences (including all scientific research vessels) and all of the industries that support such uses, including, but not limited to vessel construction and repair, vessel operations, ship logistics supply, berthing, port operations, port intermodal operations, marine terminal operations, vessel design, marine brokerage, marine insurance, marine financing, chartering, maritime-oriented supply chain operations, offshore industry and maritime-oriented research and development.

Applicant Information

1. Who is eligible to apply for designation as a Center of Excellence for Domestic Maritime Workforce Training and Education (CoE)?

Participation in the CoE program is entirely voluntary for an eligible educational institution. An eligible educational institution is not required to seek a CoE designation. Under the statute, an educational institution that provides training and education for the domestic maritime workforce is eligible to apply so long as it meets the following criteria:

a. An institution located in a State that borders on at least one of the following bodies of water:

1. Gulf of Mexico;

2. Atlantic Ocean;

3. Long Island Sound;

4. Pacific Ocean;

5. Great Lakes;

6. Mississippi River System;

7. Arctic; or

8. Gulf of Alaska.

b. The institution is:

1. A Community or Technical College; or

2. A Maritime Training Center—

i. Operated by, or under the supervision of a State; and

ii. With a maritime training program in operation in its curriculum on 12/12/2017; or

3. A group of Community or Technical Colleges and/or Maritime Training Centers that:

i. Consists only of members that meet the eligibility criteria at (1)(a) and either (1)(b)(1) or (1)(b)(2), and the selection criteria under (2);

ii. Names a member of such group as a lead entity. The lead entity will serve as the primary point of contact with MARAD and will be responsible for all duties, including administrative, legal and financial, as related to the CoE designation. For example, the lead entity is responsible for submitting the CoE application, responding to any inquiries from MARAD, and coordinating and executing any cooperative agreements with MARAD; and

iii. Has a legally binding agreement signed by all members. That agreement must include the name of the group, which will receive the CoE designation if one is granted, and list the lead entity and its responsibilities consistent with (ii) of this section.

2. How does MARAD interpret the selection criteria for CoE designation?

I. Assuming no alternative qualifications are provided, MARAD will consider applicants eligible for designation if they can demonstrate compliance with all the following criteria:

a. The academic programs offered by the institution include:

1. One or more Afloat Career preparation tracks in the United States Maritime Industry, and/or

2. One or more Ashore Career preparation tracks in the United States Maritime Industry.

b. Applicant institutions offering Afloat Career and/or Ashore Career tracks have been accredited as follows:

1. “Community or Technical Colleges” hold current accreditation of the institution from a Regional Accreditation Agency or a Nationally Recognized Agency on the list of Accrediting Agencies approved by the U.S. Department of Education.

2. “Maritime Training Centers” hold current accreditation either—

i. of the institution, from a Regional Accreditation Agency or a Nationally Recognized Agency on the list of Accrediting Agencies approved by the U.S. Department of Education; or

ii. of the maritime training program offered by the institution from either:

A. The State Apprenticeship Agency (SAA) in accordance with 29 CFR part 29,

B. the State's Department of Education or equivalent State agency,

C. the United States Coast Guard (USCG), or

D. other appropriate external review body which is specifically authorized to review and validate post-secondary education programs and is acceptable to MARAD.

c. As applicable, maintain USCG approval for the merchant mariner training program and/or merchant mariner training course(s) offered by the institution.

d. Provide data and statistics to demonstrate institutional and/or program effectiveness. This should include, but is not limited to, recruitment data, past/current enrollment (trends), attrition rates, student program completion data, post-program job and placement statistics (to the extent available to the institution), and program effectiveness feedback from students, faculty, alumni, and other stakeholders.

e. As applicable, maintain authorization and/or endorsement of the program and/or course(s) by an applicable professional society or industry body (including, but not limited to Welding, Electrician, Electronics, Maritime Construction, Maritime Logistics, Maritime Systems, etc.) to issue industry accepted certifications that reflect professional recognition of the level of educational or technical skill achievement.

II. Additional factors to be considered may include the following qualitative attributes fostered by the institution:

a. Supporting workforce needs of the local, state, or regional economy;

b. Building Science, Technology, Engineering, and Math (STEM) competencies of local/future workforce through maritime programs to meet emerging local, regional, and national economic interests;

c. Promoting diversity and inclusion among the student body;

d. Offering a broad-based curriculum and stackable credentials where applicable;

e. Engaging and/or collaborating with the maritime industry including, but not limited to employers, associations, and other industry organizations or partners;

f. Engaging and/or collaborating with employer-led maritime training practices and programs through Sector Partnerships as authorized in the 2014 Workforce Innovation and Opportunity Act Section 3(26);

g. Engaging and/or collaborating with local and regional maritime high schools or other high schools with maritime, maritime related, Career Technical Education (CTE) or STEM programs;

h. Engaging and/or collaborating with maritime academies as appropriate and other applicable institutions or organizations for advanced proficiency and higher education; and

i. Conducting other significant domestic maritime workforce development related activities.

3. What agreement may MARAD execute with a designated CoE?

The Maritime Administrator, or designee, may enter into a cooperative agreement with a CoE to support maritime workforce training and education, including but not limited to, efforts of the CoE to:

a. Recruit, admit, and train students;

b. Recruit and train faculty;

c. Expand or enhance facilities;

d. Create new maritime career pathways;

e. Award students credit for prior experience, including military service;

f. Expand and improve employer-led maritime training practices and programs through the establishment of Sector Partnerships as authorized in the 2014 Workforce Innovation and Opportunity Act Section 3(26); and

g. Conduct such other CoE activities that are determined by MARAD to further maritime workforce training and education.

4. What specific assistance may MARAD offer to a designated CoE under a Cooperative Agreement?

By entering into a cooperative agreement, MARAD may be able to offer the following types of assistance:

a. Donation of surplus equipment to CoEs that also meet the requirements of 46 U.S.C. 51103(b)(2)(C);

b. Temporary use of MARAD vessels and assets for indoctrination, training, and assistance, subject to availability and approval by MARAD and the Department of Defense when applicable. For any CoE requests relating to temporary use of a MARAD Training Ship operated by a State Maritime Academy, the MARAD approval process will include consultation with that Academy;

c. Availability of MARAD subject matter experts to address students when feasible; and

d. Funding, to the extent such funds are properly appropriated and made available for this purpose.

Implementation and Administration

MARAD will evaluate the applicant's supporting documentation and either approve or disapprove the request for designation. During the evaluation of the application and the supporting documentation, MARAD may request clarifications or additional information from the applicant. Upon approval, the Maritime Administrator or his/her designee will make a designation. MARAD will thereafter publish the CoE's name and contact information on its website. After issuance of the designation, MARAD may enter into a cooperative agreement with the CoE.

5. When and where should I submit my application for designation?

a. MARAD will publish notifications in the Federal Register and on its website at the beginning of March each year seeking applications on or before June 1. This should provide applicants a minimum of 60 days to prepare and submit their applications.

Note: The first CoE application period is anticipated to occur sometime soon after the agency receives the required Office of Management and Budget information collection number. Accordingly, the first CoE application period to be noticed may occur outside the proposed March-June time frame.

b. An eligible training entity seeking designation as a CoE may submit applications, including all supporting information and documents, by email to CoEDMWTE@dot.gov.

Or by mail addressed as follows: Department of Transportation, Maritime Administration, Deputy Associate Administrator for Maritime Education and Training, Attention: CoE Designation Program, 1200 New Jersey Ave. SE, Washington, DC 20590.

6. How will I know the outcome of my designation request application?

MARAD will notify each applicant of the status of their designation request. During the evaluation period, MARAD may request clarification or additional information from the applicant.

7. Does my CoE designation expire?

CoE designations are identified by year (e.g., X has been designated a Center of Excellence for Domestic Maritime Workforce Training and Education for 2020). Successful applicants can apply each year for designation.

How To Apply for a CoE Designation

8. What should be included in my CoE Designation Application?

Special Instructions: To assist MARAD in its review of your application and to ensure that your application is identified as complete, your institution should provide only concise and relevant information and supporting documentation to adequately demonstrate your eligibility and compliance with the statutory designation criteria. To that end, MARAD encourages your institution to ensure that each responsive section and each page of any document or enclosure in your application clearly references the question number(s) and section(s) listed in this guidance and or the statute. See the below examples:

Example 1. “Mar Ex” is eligible for the CoE program as a community college. (Q10, Section I(c)). Please find enclosed our Articles of Incorporation, Certificate of Status, State supervision and validation document. (Q10, Section I(c)(1-3).

Example 2. “Mar Ex” is enclosing the following supporting documents to demonstrate that our Maritime Training Center offers Afloat Track programs and that we are State accredited. (Q10, Section I(e)(2)): U.S. Department of Education Accrediting Agency XYZ accreditation (Q10, Section I(e)(2)(i).

Information To Include in Your Application

Including the following information will greatly assist our review process:

1. Letter applying for CoE designation from the Chief Executive of the applicant institution.

2. Applicant contact information:

a. Legal name of applicant institution and address.

b. Chief executive's name, position title, address, phone number(s) and email.

c. Points of contact (POC) name(s), position titles, phone number(s), emails.

3. Indicate if the applicant institution is claiming eligibility for the CoE program as a “Community or Technical College” or “Maritime Training Center”, and submit the following supporting information and documents:

a. Charter, Articles of Incorporation, Certificate of Incorporation, or equivalent, if applicable.

b. Certificate of Status (also known as Certificate of Existence or Certificate of Good Standing), a document issued by a State official (usually the Secretary of State), if applicable.

c. State operation or State supervision validation documents, if applicable.

d. Non-Profit certification, if applicable.

e. Accreditation approval letter(s) from an accrediting agency(ies).

f. Approval letter from a State Apprenticeship Agency (SAA) in accordance with 29 CFR part 29, if applicable.

g. Approval letter from the State's Department of Education or equivalent State agency, if applicable.

h. Approval letter from the United States Coast Guard (USCG), if applicable.

i. ISO 9001 or other quality management certification (Maritime Training Centers only), if applicable.

j. Data and statistics to demonstrate institutional effectiveness. This should include, but not be limited to, recruitment data, past/current enrollment (trends), attrition rates, student program completion data, post-program job and placement statistics (to the extent available to the institution), and program effectiveness feedback from students, faculty, alumni, and other stakeholders.

4. Indicate that the applicant offers one or more Afloat Career preparation tracks and/or one or more Ashore Career preparation tracks in the United States Maritime Industry and submit the following supporting information:

a. Program summary;

b. A description of applicable courses offered (only relevant maritime related program-specific pages from the catalogue);

c. If applicable, letters of authorization and/or endorsement of the course/program and/or course(s) by an applicable professional society or industry body (including, but not limited to Welding, Electrician, Electronics, Maritime Construction, Maritime Logistics, Maritime Systems, etc.) to issue industry accepted certifications that reflect a professionally recognized level of educational or technical skill achievement; and

d. Any other relevant supporting documentation.

Note: Applicant institutions offering both Ashore and Afloat Career tracks are encouraged to submit supporting information for both tracks.

5. Applicant institutions offering Afloat Career and/or Ashore Career tracks should indicate that they have satisfied accreditation requirements, as set forth below:

a. “Community and Technical Colleges” hold current accreditation of the institution from a Regional Accreditation Agency or a Nationally Recognized Agency on the list of Accrediting Agencies approved by the U.S. Department of Education.

b. “Maritime Training Centers” hold current accreditation—

i. either of the institution from a Regional Accreditation Agency or a Nationally Recognized; Agency on the list of Accrediting Agencies approved by the U.S. Department of Education; or

ii. of the maritime training program offered by the institution from one or more of the following:

A. A State Apprenticeship Agency (SAA) in accordance with 29 CFR part 29,

B. the State's Department of Education or equivalent State agency,

C. the United States Coast Guard (USCG), if applicable; or

D. other appropriate external review body which is specifically authorized to review and validate post-secondary education programs and is acceptable to MARAD.

6. All applicant institutions may submit a brief narrative statement for one or more qualitative attributes fostered by the institution to accomplish the following:

a. Support the workforce needs of the local, state, or regional economy;

b. Build the STEM (Science, Technology, Engineering, and Math) competencies of local/future workforce to meet emerging local, regional, and national economic interests;

c. Promote diversity and inclusion among the student body;

d. Offer a broad-based curriculum and stackable credentials, where applicable;

e. Engage and/or collaborate with the maritime industry, including, but not limited to employers, associations, and other industry organizations or partners;

f. Engage and/or collaborate with employer-led maritime training practices and programs through Sector Partnerships as authorized in the 2014 Workforce Innovation and Opportunity Act Section 3(26);

g. Engage and/or collaborate with local and regional maritime high schools with maritime, maritime related, Career Technical Education (CTE) or STEM programs;

h. Engage and/or collaborate with maritime academies and other institutions or organizations for advanced proficiency and higher education; and

i. Conduct other significant domestic maritime workforce development related activities.

7. All applicant institutions may provide any relevant endorsements, awards, recognition and significant accomplishments in support of their application.

Policy Analysis and Notices

Consistent with the Administrative Procedures Act and Department of Transportation rulemaking policy, MARAD is publishing this policy in the Federal Register to indicate how it plans to exercise the discretionary authority provided by Section 3507 of the National Defense Authorization Act of 2018, Public Law 115-91 (December 12, 2017). Nothing in this notice or in the policy itself requires MARAD to exercise its discretionary authority under 46 U.S.C. 54102. This policy establishes a voluntary program in which successful applicants may be designated as a Center of Excellence for Domestic Maritime Workforce Training and Education (CoE).

Paperwork Reduction Act

The information collection requirements in this final policy are being submitted for approval to the Office of Management and Budget (OMB) under the Paperwork Reduction Act of 1995, 44 U.S.C. 3501, et seq. The sections that contain the information collection requirements are detailed in the above section entitled “How to be Designated a Center of Excellence for Domestic Maritime Workforce Training and Education” and the estimated time to fulfill each requirement and to prepare a complete application are estimated in the section entitled “Collection Summary” below.

The OMB is required to make a decision concerning the collection of information requirements contained in this final policy within 60 days after publication of this document in the Federal Register. Therefore, a comment to OMB is best assured of having its full effect if OMB receives it within 30 days of this publication. [To direct your comments, see section entitled ADDRESSES]

MARAD intends to obtain a current OMB control number for the information collection requirements resulting from this rulemaking action prior to the effective date of this final policy. The OMB control number, when assigned, will be announced by separate notice in the Federal Register. Copies of this notice and information collection request may be obtained from the Office of Maritime Labor and Training MAR-650, Room W23-314, 1200 New Jersey Avenue SE, Washington, DC 20590.

—Title of Information Collection: Centers of Excellence for Domestic Maritime Workforce Training and Education Program.

—OMB Control Number: Pending.

—Form Number: None.

—Expiration Date of Approval: Three years following approval by the Office of Management and Budget.

—Summary of Collection of Information: Entities seeking to obtain designation as a Center of Excellence for Domestic Maritime Workforce Training and Education (CoE). Entities seeking CoE designation must submit certain information described in the proposed policy and application procedures. No form is required to make a submission. However, all information described in the application procedures will be required to be submitted as described therein and is necessary for the proper review of the applicant's qualifications.

—Need for and Use of the Information: The information collected will be used to analyze whether applicants have the qualifications to meet the programmatic requirements of Section 3507 of the National Defense Authorization Act, 2018. This policy is necessary to establish an understanding between MARAD and the applicant/training entity that certain terms must be met to hold a CoE designation. Without this information, MARAD would not be able to offer the benefit of its CoE designation program to applicants. In addition, CoE designation will facilitate the training and education of a domestic maritime workforce essential to meeting the nation's current and projected economic and national security needs.

—Description of Respondents: As defined by statute, Community Colleges, Technical Colleges and certain Maritime Training Centers with a maritime training program in operation on December 12, 2017.

—Annual Responses: Once the Program is implemented, the agency anticipates between 75-100 submissions each year. Designation is a one-time event identified by year. However, the agency does anticipate the collection of information annually from the same estimated number of training entities seeking annual designation.

—Annual Burden: 24 hours per program participant.

(Authority: The National Defense Authorization Act of 2018, P.L. 115-91 (December 12, 2017), 46 U.S.C. 54102, The Paperwork Reduction Act of 1995, 44 U.S.C. Chapter 35, as amended, 49 CFR 1.49)

Dated: March 2, 2020.
By Order of the Maritime Administrator.
T. Mitchell Hudson, Jr.,
Secretary, Maritime Administration.

[FR Doc. 2020-04570 Filed 3-5-20; 8:45 am]

BILLING CODE 4910-81-P